DEPARTMENT OF STATE

[Public Notice 6478]

Culturally Significant Objects Imported for Exhibition Determinations: “Turner to Cezanne: Masterpieces from the Davies Collection, National Museum Wales”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Turner to Cezanne: Masterpieces from the Davies Collection, National Museum Wales,” imported from abroad for temporary exhibition within the United States, are of cultural significance. The objects are imported pursuant to a loan agreement with the foreign owner or custodian. I also determine that the exhibition or display of the exhibit objects at the Columbia Museum of Art, Columbia, South Carolina, from on or about March 6, 2009, until on or about June 7, 2009; Oklahoma City Museum of Art, Oklahoma City, OK, from on or about June 25, 2009, until on or about September 20, 2009; Everson Museum of Art, Syracuse, NY, from on or about October 8, 2009, until on or about January 3, 2010; Corcoran Gallery of Art, Washington, DC, from on or about January 30, 2010, until on or about April 25, 2010, and the Albuquerque Museum of Art & History, Albuquerque, NM, from on or about May 16, 2010, until on or about August 8, 2010, and at possible additional exhibitions or venues yet to be determined, is in the national interest. Public Notice of these Determinations is ordered to be published in the Federal Register.

FOR FURTHER INFORMATION CONTACT: For further information, including a list of the exhibit objects, contact Julie Simpson, Attorney-Adviser, Office of the Legal Adviser, U.S. Department of State (telephone: (202-453-8050). The address is U.S. Department of State, SA-44, 301 4th Street, SW., Room 700, Washington, DC 20547-0001.

Dated: December 23, 2008.
C. Miller Crouch,
Principal Deputy Assistant Secretary for Educational and Cultural Affairs, Department of State.

[FR Doc. E9-209 Filed 1-8-09; 8:45 am]

BILLING CODE 4710-05-P